DEPARTMENT OF AGRICULTURE

Food and Nutrition Service

Agency Information Collection Activities: Proposed Collection; Comment Request—Farm to School Census and Comprehensive Review

AGENCY: Food and Nutrition Service (FNS), United States Department of Agriculture (USDA).

ACTION: Notice and request for comments.

SUMMARY: In accordance with the Paperwork Reduction Act of 1995, this notice invites the general public and other public agencies to comment on this proposed information collection. This collection is a new collection to study farm to school efforts being conducted for the Farm to School Census and Comprehensive Review. The final report will comprehensively examine farm to school and its progress since the passage of the 2010 Child Nutrition Reauthorization, including the United States Department of Agriculture (USDA) Farm to School Grant Program and general growth of farm to school efforts across the country documented by the Farm to School Census and other data sources. This collection includes a structured web survey with School Food Authority (SFA) Directors as well as semi-structured interviews to be conducted by telephone with distributors of school food.

DATES: Written comments must be received on or before May 18, 2018.

ADDRESSES: Address all comments concerning this notice to Ashley Chaifetz, Ph.D., Social Science Research Analyst, Special Nutrition Evaluation Branch, Office of Policy Support, USDA Food and Nutrition Service, 3101 Park Center Drive, Alexandria, VA 22302. Comments may be submitted via email to Ashley.Chaifetz@fns.usda.gov. Comments will also be accepted through the Federal eRulemaking Portal. Go to http://www.regulations.gov and follow the online instructions for submitting comments electronically.

All responses to this notice will be summarized and included in the request for Office of Management and Budget (OMB) approval. All comments will be a matter of public record.

FOR FURTHER INFORMATION CONTACT: To request more information on this proposed research, contact Ashley Chaifetz, Ph.D., Social Science Research Analyst, Special Nutrition Evaluation Branch, Food and Nutrition Service, USDA, 3101 Park Center Drive, Alexandria, VA 22302; Fax: 703-305-2576; Email: Ashley.Chaifetz@fns.usda.gov.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Farm to School Census and Comprehensive Review.

OMB Number: 0584—NEW.

Expiration Date: Not yet determined.

Type of Request: New collection.

Abstract: Section 18 of the Richard B. Russell National School Lunch Act authorized and funded USDA to establish a farm to school program in order to assist eligible entities through grants and technical assistance, in implementing farm to school programs that improve access to local foods in schools. This work is housed within the FNS Office of Community Food Systems (OCFS). The Farm to School Census and Comprehensive Review is a 3-year study that will review and describe the multiple facets of farm to school, including the USDA Farm to School Grant Program and expansion of farm to school efforts across the country documented by the Farm to School Census and other data sources. The final report will comprehensively examine farm to school efforts and their progression since the passage of the 2010 Child Nutrition Reauthorization.

The study will include a literature review to identify current data sources for analysis, complete a gap analysis of current farm to school-focused publications and data, develop recommendations for improving evaluation-related reporting of the USDA Farm to School Grant program, and design, conduct, and report on the 2019 Farm to School Census, which will be supplemented with additional data sources. The results of this study aim to improve the methods and tools used by FNS to describe the impact and benefits of formal and informal farm to school activities administered by grantees, schools, SFAs, and other stakeholders. Ultimately, the study will produce a first-of-its-kind report—a comprehensive assessment of farm to school from 2010 to 2020. This study will collect and synthesize data collected through a national census of SFAs with extant data regarding farm to school activities, local sourcing practices, and economic activity associated with these practices.

To accomplish study objectives, two data collections are planned:

(1) Distributor Survey will obtain the perspectives of large-scale food distributors on the processes and challenges to local food purchasing and procurement. The respondents for this survey will be purposively sampled based on their substantive contributions and likelihood of participating. The 60 minute survey will be conducted via a phone interview. The survey will contain quantitative questions surrounding the volume and cost of local foods purchased and procured and qualitative questions about the procurement process. The interview will be completed with 20 school food distributors. This survey will be exploratory, and will help address whether a larger survey is feasible and desirable. Currently, there are no available data on farm to school efforts from the standpoint of school food distributors.

(2) Farm to School Census (2019 Census) will collect data on local food purchasing for school meals, school food gardens, other farm to school activities and policies, and evidence of the economic and nutritional impacts of farm to school activities. The 2019 Census Survey will be distributed to all (public ¹ and private) SFA Directors in all 50 states, Guam, Puerto Rico, the Virgin Islands, American Samoa, and Washington, DC that participate in the National School Lunch Program (NSLP), as part of an invitation to participate from the Food and Nutrition Service (FNS) Child Nutrition Division. The online survey is expected to take 30 minutes to complete.

¹ Public includes charter schools that operate NSLP.

State Child Nutrition Directors will be asked to provide a list of public school district SFAs in the State or territory for the purpose of constructing the most up-to-date list frame possible. Available data on SFAs from FNS are only available for SFAs that submit income verification reports and thus do not provide a complete list of SFAs. State Child Nutrition Directors will also be asked to forward a pre-Census notification email and two email reminders about the Census Survey to SFAs.

The Census will be emailed to all known SFA Directors that participate in NSLP. Census Survey questions will be based on prior Farm to School Census Survey iterations in 2013 (OMB Control No. 0536-0069) and 2015 (OMB Control No. 0584-0593), with additional questions to address new research questions. The primary mode of data collection will be an online survey, with a back-up phone version to those who prefer to complete by phone. Non-respondents will receive up to two reminder phone calls and up to eight emails. Back-up phone interviews and phone reminders will be conducted by trained interviewers, and helpdesk staff will be available for technical and completion assistance. The Census will be completed once in 2019 with approximately 16,000 SFA Directors.

Affected Public: This study includes two respondent groups: (1) Business or Other For Profit (Representatives from national distributors that distribute foods to SFA and SFA Directors for private schools; and (2) State, Local, and Tribal Government (SFA Directors for public schools and State Child Nutrition Directors).

Estimated Total Number of Respondents: The total estimated number of respondents is 20,080 (16,075 respondents and 4,005 non-respondents). The estimated number of respondents for each of the planned data collections are as follows:

(1) Distributor Survey: The initial sample for the Distributor Survey will consist of 25 representatives of school food distributors (20 respondents and 5 non-respondents at a response rate of 80 percent). These 25 distributors will be purposively sampled and approached based on a list developed with FNS and this study's Advisory Panel.

(2) Farm to School Census (2019 Census): The total estimated number of respondents is the universe of 20,000 SFAs (16,000 respondents and 4,000 non-respondents). SFAs will receive up to ten reminder emails to complete the survey (eight from the study team and two from State Child Nutrition Directors). Up to two reminder call attempts will be made to a subsample of non-responding SFAs, during which time the respondent will be encouraged to complete the survey over the phone. As part of the Census Survey, the universe of 55 State Child Nutrition Directors will be asked to provide a list of public school district SFAs and private schools that administer the NSLP in the State or territory for the purpose of constructing the most up-to-date list frame possible, and to send three emails to SFAs (one pre-Census notification email and two email reminders).

Estimated Total Annual Responses: The estimated total annual responses is 163,685. This includes 94,564 for all respondents and 69,121 for non-respondents.

Estimated Frequency of Responses per Respondent: The estimated frequency across the entire collection is 8.15. Respondents to the Distributor Survey and the Census will be asked to complete each data collection instrument one time. FNS estimates that respondents will average 5.88 responses (94,564 responses/16,075 respondents) across the entire collection, with non-respondents averaging 17.26 responses (69,121 responses/4,005 non-respondents). For State Child Nutrition Directors, FNS estimates that respondents will average 4 responses (220 responses/55 respondents) across the entire collection, with no non-respondents.

Estimated Time per Response per Respondent: The average estimated time is .09 hours for all participants in this collection. Respondents will complete each data collection instrument only one time. The estimated time of response varies from 0.03 hours to one hour, depending on the respondent group, as shown in the table below. The average response times for the various respondent groups are listed below.

For the distributor survey, 25 school food distributor representatives will receive a “request to participate” email. All 20 respondents will complete a 60 minute phone interview and will be sent a thank you email at the conclusion of the study. For the distributors, the estimated time of response is 0.37 hours per response, with non-respondents averaging 0.03 hours per response.

For the Census, the average estimated time is 0.36 hours per response for responding State Child Nutrition Directors with zero non-respondents; 0.13 hours per response for public SFA director respondents with 0.03 hours per response for public SFA director non-respondents; and, 0.13 per response for private SFA director respondents and 0.03 per response for private SFA director non-respondents.

To create the sample frame for the Census, 55 State Child Nutrition Directors will receive an email requesting a list of SFA names and contact information. The same State Child Nutrition Directors will send a pre-Census notification email and two email reminders to the SFAs in their State throughout the data collection period to all 20,000 potential respondents (public and private). These materials will explain the Census, and encourage and remind the respondent to complete the survey.

During the data collection period, the study team will send up to eight reminder emails to the respondents who have not yet taken the survey. These emails are estimated to take respondents 3 minutes (.05 hours) to review, with non-respondents estimated to take 2 minutes (.03 hours) to review. Two phone calls will follow to those potential respondents that remain, which are estimated to take respondents 3 minutes and non-respondents 2 minutes to complete. All respondents who complete the 30 minute survey will be thanked for their participation in the Census (which is estimated to take 2 minutes to complete).

Estimated Total Annual Burden on Respondents: The total estimated annual burden on respondents is 14,406.03 hours. See the table (Exhibit 1) for estimated total annual burden for each type of respondent.

Dated: March 8, 2018.
Brandon Lipps,
Administrator, Food and Nutrition Service.

BILLING CODE 3410-30-P

[FR Doc. 2018-05440 Filed 3-16-18; 8:45 am]

BILLING CODE 3410-30-C